SMALL BUSINESS ADMINISTRATION

[Disaster Declaration #11464 and #11465]

Puerto Rico Disaster Number PR-00003

AGENCY: U.S. Small Business Administration.

ACTION: Amendment 3.

SUMMARY: This is an amendment of the Presidential declaration of a major disaster for the Commonwealth of Puerto Rico (FEMA-1798-DR ), dated 10/01/2008.

Incident: Severe Storms and Flooding.

Incident Period: 09/21/2008 through 10/03/2008.

DATES: Effective Date: 11/05/2008.

Physical Loan Application Deadline Date: 12/01/2008.

EIDL Loan Application Deadline Date: 07/01/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of PUERTO RICO, dated 10/01/2008 is hereby amended to include the following areas as adversely affected by the disaster:

Primary Municipalities: (Physical Damage and Economic Injury Loans): Las Piedras, Naguabo.

Contiguous Municipalities: (Economic Injury Loans Only):

Puerto Rico: Ceiba, Rio Grande.

All other information in the original declaration remains unchanged.

(Catalog of Federal Domestic Assistance Numbers 59002 and 59008)

Herbert L. Mitchell,
Associate Administrator for Disaster Assistance.

[FR Doc. E8-27270 Filed 11-17-08; 8:45 am]

BILLING CODE 8025-01-P